DEPARTMENT OF COMMERCE

National Oceanic and Atmospheric Administration

RIN 0648-XG308

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC's) Summer Flounder, Scup, and Black Sea Bass Monitoring Committee (MC) will hold a public meeting.

DATES: The meeting will be held on Thursday, July 19, 2018, from 8:30 a.m. to 5 p.m. For agenda details, see SUPPLEMENTARY INFORMATION.

ADDRESSES: The meeting will be held at the Hyatt Place Inner Harbor, 511 South Central Avenue, Baltimore, MD 21202; telephone: (410) 558-1840.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Summer Flounder, Scup, and Black Sea Bass Monitoring Committee will meet to recommend 2019 commercial and recreational Annual Catch Limits (ACLs) and Annual Catch Targets (ACTs) for summer flounder and black sea bass, as well as review the previously implemented 2019 ACLs and ACTs for scup. The Monitoring Committee will consider the results of a collaborative research mesh size study, and review and recommend changes, if needed, to commercial management measures for all three species. Other agenda items include a review of the 2018 black sea bass February recreational fishery, an update on a Management Strategy Evaluation (MSE) for recreational summer flounder management, a discussion of the ongoing Recreational Issues Framework Action/Addendum for all three species, and a preliminary discussion of revised recreational catch estimates from the Marine Recreational Information Program (MRIP). Meeting materials will be posted to http://www.mafmc.org/ prior to the meeting.

Special Accommodations

The meeting is physically accessible to people with disabilities. Requests for sign language interpretation or other auxiliary aids should be directed to M. Jan Saunders at the Mid-Atlantic Council Office, (302) 526-5251, at least 5 days prior to the meeting date.

Dated: June 20, 2018.
Tracey L. Thompson,
Acting Deputy Director, Office of Sustainable Fisheries, National Marine Fisheries Service.

[FR Doc. 2018-13536 Filed 6-22-18; 8:45 am]

BILLING CODE 3510-22-P